DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with January anniversary dates. In accordance with the Department's regulations, we are initiating those administrative reviews. The Department also received a request to revoke one antidumping duty order in part.

DATES: Effective Date: February 24, 2011.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with January anniversary dates. The Department also received a timely request to revoke in part the antidumping duty order for honey from Argentina with respect to one exporter. The revocation request for honey from Argentina was inadvertently omitted from the initiation notice that published on January 28, 2011 (76 FR 5137). With respect to the antidumping duty order on wooden bedroom furniture from the People's Republic of China, the initiation of the antidumping duty administrative review for that case is being published in a separate initiation notice.

All deadlines for the submission of various types of information, certifications, or comments or actions by the Department discussed below refer to the number of calendar days from the applicable starting date.

Notice of No Sales

Under 19 CFR 351.213(d)(3), the Department may rescind a review where there are no exports, sales, or entries of subject merchandise during the respective period of review (“POR”) listed below. If a producer or exporter named in this notice of initiation had no exports, sales, or entries during the POR, it must notify the Department within 60 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW., Washington, DC 20230. Further, in accordance with 19 CFR 351.303(f)(3)(ii), a copy of each request must be served on every party on the Department's service list.

Respondent Selection

In the event the Department limits the number of respondents for individual examination for administrative reviews, the Department intends to select respondents based on U.S. Customs and Border Protection (“CBP”) data for U.S. imports during the POR. We intend to release the CBP data under administrative protective order (“APO”) to all parties having an APO within seven days of publication of this initiation notice and to make our decision regarding respondent selection within 21 days of publication of this Federal Register notice. The Department invites comments regarding the CBP data and respondent selection within five days of placement of the CBP data on the record of the applicable review.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register. In responding to the certification, please follow the “Instructions for Filing the Certification” in the Separate Rate Certification. Separate Rate Certifications are due to the Department no later than 60 days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceedings (e.g., an ongoing administrative review, new shipper review, etc.) and entities that lost their separate rate in the most recently complete segment of the proceeding in which they participated.

² Only changes to the official company name, rather than trade names, need to be addressed via a Separate Rate Application. Information regarding new trade names may be submitted via a Separate Rate application.

For exporters and producers who submit a separate-rate status application or certification and subsequently are selected as mandatory respondents, these exporters and producers will no longer be eligible for separate-rate status unless they respond to all parts of the questionnaire as mandatory respondents.

Initiation of Reviews

In accordance with 19 CFR 351.221(c)(1)(i), we are initiating administrative reviews of the following antidumping and countervailing duty orders. We intend to issue the final results of these reviews not later than January 31, 2012.

| Period to be reviewed
Antidumping Duty Proceedings
ARGENTINA: Honey,³ A-357-812 | 12/01/09-11/30/10
A.G.L.H. S.A.
Alogodonera Avellaneda, S.A.
Compañia Apícola Argentina S.A.
Compañia Inversora Platense S.A.
Miel Ceta S.R.L.
Patagonik S.A.
Villamora S.A.
Countervailing Duty Proceedings
THE PEOPLE'S REPUBLIC OF CHINA: Certain Oil Country Tubular Goods C-570-944 | 1/20/10-12/31/10
Angang Group New Steel Co., Ltd.
Angang Steel Co. Ltd.
Anhui Tianda Oil Pipe Co.
Anshan Xin Yin Hong Petroleum and Gas Tubular Co.
Anshan Zhongyou TIPO Pipe & Tubing Co., Ltd.
Anton Tongao Technology Industry Co. Ltd.
Anyang Iron & Steel Group Ltd.—Seamless
Aofei Tele Dongying Import & Export Co., Ltd.
Baoji Petroleum Steel Pipe (BSG)
Baoji Sumitomo Metal Petroleum Steel Pipe
Baolai Steel Pipe
Baoshan Iron & Steel Co. Ltd.
Baosteel Group Shanghai Steel Tube
Baotou Found Petroleum Machinery Co. Ltd.
Baotou Iron & Steel
Bazhou Zhuofa Steel Pipe Co., Ltd.
Beihai Steel Pipe Corporation
Beijing Changxing Kaida Composite Material Development Co., Ltd.
Beijing Shouhang Science-Technology Development Company
Beijing Youlu Co., Ltd.
Benxi Northern Steel Pipes Co., Ltd.
Cangzhou City Baohai Petroleum Material Co., Ltd.
Cangzhou City Shengdali Machinery Manufacture Co., Ltd.
Cangzhou OCTG Company Limited of Huabei Oilfield
Changshu Seamless Steel Tube
Changzhou Bao-Steel Tube
Changzhou Darun Steel Tube Co., Ltd.
Changzhou Hong Ping Material Supply Co., Ltd.
Changzhou Huixiang Petroleum Machinery Co., Ltd.
Changzhou Shengde Seamless Pipe Co., Ltd.
Changzhou Steel Pipe Factory
ChangZhou TaoBang Petroleum Tube Co., Ltd.
Changzhou Tongchuang Tube Industry Co., Ltd.
Changzhou Tong Xing Steel Tube Co.
Changzhou Yuan Yang Steel Tube Co.
Chengdu Wanghui Petroleum Pipe Co., Ltd.
China Hebei Xinyuantai Steel Pipe Co.
China Oilfield Services Limited
Chongqing Petroleum Special Pipeline Factory of CNPC Sichuan Petroleum Goods & Material Supply Corp.
CNOOC Kingland Pipeline Corp.
Dagang Oilfield Group New Century Machinery Manufacturing Co., Ltd.
Dalipal Pipe Company
Daqing High-Tech Zone Hua Rui Ke Pipe Manufacturing Co.
Daqing Petroleum Equipment Group
Daye Xinye Special Steel Company Limited
De Zhou Guang Hua Petroleum Machinery Company Limited
De Zhou United Petroleum Machinery Company Limited
Dingbian County Huayou Trading Company Limited
Dongying City Meiyang Petroleum Pipe & Fittings Co., Ltd.
Dongying Heli Petroleum Machinery Company Limited
Etco (China) International Trading Co., Ltd.
Faray Petroleum Steel Pipe Co., Ltd.
Freet Petroleum Equipment Co., Ltd. of Shengli Oil Field, The Thermal Recovery, Zibo Branch
The Freet Group
Field Construction Bohai Equipment Services
First Machinery Works of North China Petroleum
General Machinery Plant of Shengli Petroleum Administration (Shengli Oil Field Shengli Petroleum Equipment Co., Ltd.)
Grant Prideco
Guanzheng Branch of Tangshan Jidong Petroleum Machinery Company, Ltd.
Guangzhou Hongda Steel Tube
Guangzhou Iron and Steel
Guangzhou Juyi Steel Pipes Company Limited
Haerbin City Weilian Mechanical Manufacturing Company Limited
Haicheng Northern Steel Pipe Anti-Corrosion Company Limited
Handan Precise Seamless Steel Pipes Co., Ltd.
Hao Ying Qiqihaer in Northeast Special Steel Co., Ltd.
Hebei ChangFeng Steel Tube Manufacture Group
Hebei Litonglian Seamless Steel Pipe
Hebei Puyang Iron and Steel Company Limited
Hebei Xinlian Petroleum Machinery Company Limited
Hebei Xinyuantai Steel Pipe Group Co., Ltd.
Hebei Yi Xin Petroleum Pipe Company Limited
Hebei Zhongyuan Steel Pipe Manufacturing Co., Ltd.
Henan Nanyang Oilfield Machinery Manufacturing Company Limited
Henan Zyzj Petroleum Equipment
HengShui JingHua Steel Pipe Co.
Heyi Steel Tube
HG Tubulars Limited
Highgrade Tubular Manufacturing (Tianjin) Co., Ltd.
HillHead
HSC (Chengdu) Seamless Steel Pipe Co., Ltd.
Hong Kong Gallant Group Ltd.
Huai'an Zhenda Steel Tube Manufacturing Co., Ltd.
Hubei OCTG Machinery Co. (First)
Huludao Steel Pipe Industrial Co., Ltd.
Huludao City Steel Pipe Industrial Co.
Hengyang Valin Steel Tube Co.
Hengyang Valin MPM Tube Co., Ltd.
Hengyang Steel Tube Group
Jiangsu Benqiu Pipe Products Co.
Jiangsu Changbao Steel Tube Co., Ltd.
Jiangsu Changbao Precision Tube Co., Ltd.
Jiangsu Chengde Steel Tube Share Co., Ltd.
Jiangsu Fanli Steel Pipe Co.
Jiangsu Huacheng Industry Group Co.
Jiangsu Huashun Steel Pipe Co.
Jiangsu Li'Ao Steel Tube Company Limited
Jiangsu Shined Petroleum Equipment Manufacturing Company Limited
Jiangsu Wuxi Steel Group
Jiangsu Yulong Steel Pipe Company Limited
Jiangsu ZhenDa Steel Tube Group Co., Ltd.
Jiangyin Chuangxin Oil Pipe
Jiangyin City Changjiang Steel Pipe Co., Ltd.
Jiangyin City Seamless Steel Tube Factory
Jiangyin Hengyang Petroleum Machinery Company Limited
Jiangyin Jieda Shaped Tube Company Limited
Jiangyin Yashen Petroleum Pipe Company Limited
Jiangyin Yuhao Petroleum Pipe Company Limited
Jilin Baotong Petroleum Steel Pipe Company Limited
Jinan Iron and Steel Company Jigang Group Co., Ltd.
Jinxi Steel Pipe Co.
Jiuquan Iron and Steel Group (JISCO)
Laiwu Iron and Steel Corporation
Langfang OTSMAN Special Petroleum Pipe Manufacture Company Limited
Liangshan Steel Pipe Company Limited
Liaocheng Jialong Tube Manufacture Company Limited
Liaoning Large-scale Steel Pipe Co., Ltd.
Liaoning Northern Steel Pipe Co.
Liaoning ShenYu Oil Pipe Manufacture Company Limited
Lingyuan Iron & Steel Company Limited
Linyi Sanyuan Steel Pipe Industry Company Limited
Liuzhou Iron and Steel
M&M Steel Pipe Co., Ltd.
Machinery Factory of Jilin Petroleum Group Co., Ltd.
Machinery Factory of Tuha Petroleum
MCC Liaoning Dragon Pipe Industries Company Limited
Nantong Hengte Tube Co., Ltd.
Ning Xia D.M.S. OCTG Company Limited
North China Petroleum Steel Pipe Co.
Pancheng Yihong Pipe Company Limited
Pangang Group Beihai Steel Pipe Corporation
Pangang Group Chengdu Iron & Steel Co., Ltd.
Panyu ChuKong Steel Pipe Co.
Pipe and Tooling Center, Sinopec Southwest Company
Precision Pipe Manufacturing Branch of Liaoning Tianyi Industry Company
Puyang City Shuangfa Industry
Qiqihaer Haoying Iron & Steel Co. of Northeast Special Steel Group
Rizhao Steel Holding Group Co., Ltd.
RiZhao ZhongShun Steel Pipe Manufacture Company Limited
RongSheng Machinery Manufacture Limited of Huabei Oilfield
Seamless Tube Mill of Baotou Steel Union
Shaanxi Yangchang Petroleum Material Company
Shandong Continental Petroleum Equipment Co., Ltd.
Shandong Dongbao Steel Pipe Co., Ltd.
Shandong Huabao Steel Pipe Co., Ltd.
Shandong Luxing Steel Tube Co.
Shandong Molong Petroleum Machinery Co., Ltd.
Shandong Nine-Ring Petroleum Machinery Co., Ltd.
Shandong Province Coalfield Geologic Drilling Tools Factory
Shandong Shengdong Oilfield Machinery Co., Ltd.
Shandong Shengli Tongxing Petroleum Pipe Manufacture Co., Ltd.
Shandong Xinchi Steel Pipe Manufacture Co., Ltd.
Shandong Zhao Yu Petroleum Pipe Manufacture Co., Ltd.
Shanghai Baochen Oil Pipeline Materials Company Limited
Shanghai Baoshun Steel Tube Co., Ltd.
Shanghai Baoyi Industrial Company
Shanghai Kangxin Oil Pipe Manufacturing Co., Ltd.
Shanghai Mingsheng Industrial Co., Ltd.
Shanghai Yueyuechao Manufacture Tube Co.
Shanghai Zhongyou TIPO Steel Pipe Co., Ltd.
Shanxi Hongli Steel Tube Share Company Limited
Shanxi Guolian Pipe Industry Group Co., Ltd.
Shanxi Yuci Guolian Steel Pipe Co., Ltd.
Shengli General Engineering (The Thermal Recovery Equipment Manufactory of Shengli General Engineering)
Shengli Oil Field Freet Petroleum Equipment Co., Ltd.
Shengli Oil Field Freet Petroleum Steel Pipe Co., Ltd.
Shengli Oil Field Highland Petroleum Equipment Co., Ltd.
Shengli Oilfield Shengji Petroleum Equipment Co., Ltd.
Shengli Petroleum Administration General Machinery Plant
Shenzhen Weisheng I.T.S. Petroleum Tubular & Equipment Co., Ltd.
Sichuan ChengJiWeiYe Steel Pipe Co., Ltd.
Sichuan Huagong Petroleum Steel Pipe Co., Ltd.
Steel Pipe Works of North China Petroleum
Suzhou Friend Tubing and Casing Pipe Co., Ltd.
Suzhou Seamless Steel Tube Works
Taizhou Shuangyang Precision Seamless Steel Tube Co., Ltd.
Tangshan Sanjin Mingsheng Industry Development Co., Ltd.
Thermal Recovery Equipment Manufacturer of Shengli Oil Field Freet Petroleum Equipment Co., Ltd.
Tianjin City Jinghai County Baolai Industrial and Trade Co.
Tianjin City Juncheng Seamless Tube Company Limited
Tianjin City Tian Yi Seamless Steel Tube Company Limited
Tianjin Coupling Heat Treatment Company Limited
Tianjin DeHua Petroleum Equipment Manufacturing Company Limited
Tianjin Hua Xin Premium Connections Pipe Co, Ltd.
Tianjin Huilitong Steel Tube Co., Ltd.
Tianjin Jingtong Seamless Steel Pipe Co., Ltd.
Tianjin Lifengyuanda Steel Group Co., Ltd.
Tianjin Liqiang Steel Pipe Co.
Tianjin Pipe Group Corporation
Tianjin Pipe Industry Development Company
Tianjin Ring-Top Petroleum Manufacture Co., Ltd.
Tianjin Seamless Steel Pipe Plant
Tianjin Shengcaiyuan Steel Trading Co., Ltd.
Tianjin Shenzhoutong Steel Pipe Co., Ltd.
Tianjin Shuangjie Pipe Manufacturing Co., Ltd.
Tianjin Tiangang Special Petroleum Pipe Manufacturer Co., Ltd.
Tianjin Tianye Seamless Steel Pipe Plant Ltd.
Tianjin Tubular Goods Machining
Tianjin United Steel Pipe Co (UNISTEEL)
Tianjin Xingyuda Steel Pipe Co., Ltd.
Tianjin Zhongshun Industry Trade Co., Ltd.
TianJin ZhongShun Petroleum Steel Pipe Co., Ltd.
Tonghua Iron & Steel Group Panshi Seamless Steel Tube Company Limited
Tuha Petroleum Machinery
WSP Holdings Limited
Wuhan Wugang Group Hanyang Steel Factory
Wuxi Baoda Petroleum Special Pipe Manufacture Co., Ltd.
Wuxi City DeRui Seamless Steel Pipe Co.
Wuxi City DongQun Steel Tube Co.
Wuxi Dingyuan Precision Cold-Drawn Steel Pipe Co.
Wuxi Erquan Special Steel
Wuxi Fanyong Liquid Presses Tube Company Limited
Wuxi Fastube Dingyuan Precision Steel Pipe Co., Ltd.
Wuxi Fastube Industry Co.
Wuxi Horizon Petroleum Special Pipe Manufacture Company Limited
Wuxi Huayou Special Steel Co., Ltd.
Wuxi Huazin Petroleum Machine Company Limited
Wuxi Precese Special Steel Co., Ltd.
Wuxi Ruiyuan Special Steel Pipe Company Limited
Wuxi Seamless Oil Pipe Co., Ltd.
Wuxi SP, Steel Tube Manufacturing Co., Ltd.
Wuxi Xijin Petroleum Equipment Fittings Manufacturing Co., Ltd.
Wuxi Xingya Seamless Steel Tube
Wuxi Zhen Dong Steel Pipe Works
Wuxi Zhenda Special Steel Tube Manufacturing Co., Ltd.
Xinjiang Petro Administration Bureau Machinery Manufacture General Company
Xinjiang Ster Petroleum Tubes and Pipes Manufacturing Co., Ltd.
Xigang Seamless Steel Tube Co., Ltd.
XiNing Special Steel Co., Ltd.
Xuzhou Guanghuan Steel Tube Co. Ltd.
Yancheng Steel Tube Works Co., Ltd.
Yancheng Teda Special Pipe Co., Ltd.
Yangzhou Chengde Steel Tube
Yangzhou Lontrin Steel Tube Co., Ltd.
Yantai KIYOFO Seamless Steel Pipe Company Limited
Yantai Steel Pipe Co., Ltd. of Laiwu Iron & Steel Group
Yantai Yuanhua Steel Tubes Company Limited
ZhangJiaGang ZhongYuan Pipe-Making Co.
Zhejiang Jianli Enterprise Co., Ltd.
Zhejiang Minghe Steel Pipe Co., Ltd.
Zhonghsi Special Steel Tubes Co., Ltd.
Zibo Hongyang Petroleum Equipment Co., Ltd.
Zibo Pipe Manufacturing

Suspension Agreements

None.

³ The company names listed were misspelled in the initiation notice that published on January 28, 2011 (76 FR 5137). The correct spelling of the company names are listed in this notice.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed in 19 CFR 351.101(d)).

This initiations and this notice are in accordance with section 751(a) of the Act (19 U.S.C. 1675(a)), and 19 CFR 351.221(c)(1)(i).

Dated: February 16, 2011.
Christian Marsh,
Deputy Assistant Secretary for Antidumping and Countervailing Duty Operations.

[FR Doc. 2011-4203 Filed 2-23-11; 8:45 am]

BILLING CODE 3510-DS-P